DEPARTMENT OF LABOR

Employment and Training Administration

[TA-W-53, 822]

Flint River Textiles, Inc., Albany, GA; Notice of Termination of Investigation

Pursuant to section 221 of the Trade Act of 1974, as amended, an investigation was initiated on December 17, 2003 in response to a petition filed by a company official on behalf of workers at Flint River Textiles, Inc., Albany, Georgia.

The petitioner has requested that the petition be withdrawn. Consequently, the investigation has been terminated.

Signed at Washington, DC this 22nd day of December, 2003.
Linda G. Poole,
Certifying Officer, Division of Trade Adjustment Assistance.

[FR Doc. 04-657 Filed 1-12-04; 8:45 am]

BILLING CODE 4510-30-P